ENVIRONMENTAL PROTECTION AGENCY

[FRL-6716-2]

2000 National Resource Conservation and Recovery Act Program Meeting

AGENCY: Environmental Protection Agency.

ACTION: Notice of Public Invitation to Plenary Sessions of RCRA National Meeting and to Environmental Indicator Forum Sessions.

SUMMARY: Notice is hereby given of public invitation to the plenary sessions of the regular meeting of the National Resource Conservation and Recovery Act (RCRA) Program, “RCRA: Visions for the Future.” This meeting, August 15-18, 2000, brings together RCRA program representatives from the Environmental Protection Agency (EPA), state government, and tribes. The National Meeting will explore future management issues of hazardous and nonhazardous (industrial, municipal, and other) waste. A long-standing tradition, the National RCRA Program Meeting continues to be a great opportunity to share with, and learn from, each other. It promotes new EPA Headquarters initiatives, and fosters discussion and education concerning regional and state issues.

Although attendance at the National Meeting breakout sessions is limited to regulators, the general public is invited to attend the two plenary sessions. An Environmental Indicator Forum will be held during the Meeting. The Forum attempts to improve our efforts to ensure the protection of public health, and to control the migration of contaminated water.

DATES: The two plenary sessions at the 2000 National RCRA Program Meeting are open to the public. The first plenary starts at 8:30 a.m. on Tuesday, August 15, 2000 and ends at noon. The second plenary starts at 8:30 am on Thursday, August 17, 2000 and ends at 10:00 am. The Environmental Indicator Forum, will start at 1:00 pm on August 15, and continue through August 17. It is also open to the public.

ADDRESSES: The 2000 National RCRA Program Meeting and the Environmental Indicator Forum will both be held at the Hyatt Regency Capitol Hill Hotel at 400 New Jersey Avenue, NW, Washington, D.C. Information on the room location of the plenary sessions will be provided upon registration.

FOR FURTHER INFORMATION CONTACT: Carlos Lago, (703-308-8642), or Mike Fitzpatrick (703-308-8411), Office of Solid Waste, Mail Code 5303W, U.S. Environmental Protection Agency, Ariel Rios Building, 1200 Pennsylvania Avenue, NW, Washington D.C. 20460. You may also contact them by e-mail at “lago.carlos@epamail.epa.gov” Or “fitzpatrick.mike@epamail.epa.gov”.

SUPPLEMENTARY INFORMATION:

Status

The public is invited only to the two plenary sessions at the National Meeting. At the plenary sessions, federal, state, and tribal officials, and representatives from industry and public interest groups, will discuss current topics related to the RCRA program and the latest Agency initiatives. The public is invited to attend all the Environmental Indicator Forum sessions.

Preregistration is required for the plenary and the Environmental Indicator Forum sessions. There is no cost to register. No registration will occur at the door. Seating is limited, so early registration is recommended. To reduce costs and minimize paper, we encourage everyone to register electronically for the meetings and at the Hyatt hotel using the meeting web site: <www.epa.gov/osw/meeting/index.htm>. If electronic registration is not possible, please contact Christine Milerson at HAZMED, (301) 577-9339, ext. 234. The address is Hazmed, 10001 Derekwood Lane, Suite 115, Lanham, MD 20706.

Dated: June 6, 2000.
Elizabeth Cotsworth,
Director, Office of Solid Waste.

[FR Doc. 00-15027 Filed 6-13-00; 8:45 am]

BILLING CODE 6560-50-U